DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, October 24, 2012.

FOR FURTHER INFORMATION CONTACT: Ms. Caryl Grant, National Public Liaison, CL:NPL:SRM, Rm. 7559, 1111 Constitution Avenue NW., Washington, DC 20224. Phone: 202-927-3641 (not a toll-free number). Email address: *public_liaison@irs.gov.

SUPPLEMENTARY INFORMATION: Notice is hereby given pursuant to section 10(a)(2) of the Federal Advisory Committee Act, 5 U.S.C. App. (1988), that a public meeting of the IRPAC will be held on Wednesday, October 24, 2012 from 9 a.m. to 12 p.m. at DoubleTree by Hilton, 1515 Rhode Island Avenue NW., Washington, DC, 20005. Report recommendations on issues that may be discussed include: Cost Basis Reporting for Debt and Options, de minimis Threshold for Form 1099 Corrections, Foreign Account Tax Compliance Act including: Preexisting Account Definition, Reason to Know Standards, FFI Verification Process, Presumption Rules for Certain Exempt Recipients, Ordinary Course of Business Payments, and Model Intergovernmental Agreements. Other issues that may be discussed include new Forms W-8BEN, Certification of Foreign Status of Beneficial Owner for United States Tax Withholding, Coordination of Chapter 3 and Chapter 4, Short-term Debt IRC § 6050W and Form 1099-K, Payment Card and Third Party Network Transactions, Reporting Tax Credits on Form 1097-BTC, Bond Tax Credit, Third Party Agent Reporting Using Form 2678, Employer/Payer Appointment Agent, Employer and Insurer Shared Responsibilities under the Patient Protection and Affordable Care Act, Third-party Sick Pay, Proper Reporting for Flexible Spending Arrangement Improper Payments, Form 5558, Application for Extension of Time to File Certain Employee Plan Returns, Penalty Relief, Employee Stock Ownership (ESOP) and Cash Balance Plan Prototypes, Withholding of Tax on Nonresident Aliens and Foreign Entities, Form 1098-T, Tuition Statement, Withholding and Reporting on Payments for Freight, Shipping, and Other Transportation Expenses under IRC § 1441 and § 1442, Electronic Furnishing to Recipients of Form 1042-S, Foreign Person's U.S. Source Income Subject to Withholding, Central Withholding Agreements: Addressing Needs of Venues and Foreign Artists through a Mini-CWA Program and Problems Encountered by Foreign Artists when Applying for U.S. Social Security Numbers, Form 8938, Statement of Specified Foreign Financial Assets, and Form TD F 90-22.1, Report of Foreign Bank and Financial Accounts, Requirements. Last minute agenda changes may preclude advance notice.

Due to limited seating and security requirements, please call or email Caryl Grant to confirm your attendance. Ms. Grant can be reached at 202-927-3641 or *public_liaison@irs.gov. Should you wish the IRPAC to consider a written statement, please call 202-927-3641, or write to: Internal Revenue Service, Office of National Public Liaison, CL:NPL:SRM, Room 7559, 1111 Constitution Avenue NW., Washington, DC 20224 or email: *public_liaison@irs.gov.

Dated: September 27, 2012.
John Lipold,
Designated Federal Official, Branch Chief, National Public Liaison.

[FR Doc. 2012-24452 Filed 10-3-12; 8:45 am]

BILLING CODE 4830-01-P